DEPARTMENT OF TRANSPORTATION

Federal Aviation Administration

Agency Information Collection Activities: Requests for Comments; Clearance of Renewed Approval of Information Collection: Certification: Pilots and Flight Instructors

AGENCY: Federal Aviation Administration (FAA), DOT.

ACTION: Notice and request for comments.

SUMMARY: In accordance with the Paperwork Reduction Act of 1995, FAA invites public comments about our intention to request the Office of Management and Budget (OMB) approval to reinstate a previously approved information collection. FAA regulations prescribe certification standards for pilots, flight instructors, and ground instructors. The information collected is used to determine compliance with applicant eligibility.

DATES: Written comments should be submitted by June 6, 2017.

ADDRESSES: Send comments to the FAA at the following address: Ronda Thompson, Federal Aviation Administration, ASP-110, 800 Independence Ave. SW., Washington, DC 20591.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION:

OMB Control Number: 2120-0021.

Title: Certification: Pilots and Flight Instructors.

Form Numbers: FAA Forms 8710-1.

Type of Review: Reinstatement of an information collection.

Background: Title 14 of the Code of Federal Regulations part 61 (14 CFR part 61) Certification: Pilots, Flight Instructors, and Ground Instructors prescribes minimum standards and requirements for the issuance of airman certificates, and establishes procedures for applying for airman certificates. The Airman Certificate and/or Rating Application form and the required records, logbooks and statements required by the federal regulations are submitted to Federal Aviation Administration (FAA) Flight Standards District Offices or its representatives to determine qualifications of the applicant for issuance of a pilot or instructor certificate, or rating or authorization.

Respondents: Approximately 1,196,653 responses.

Frequency: On occasion.

Estimated Average Burden per Response: 25 minutes.

Estimated Total Annual Burden: 330,501 hours.

Issued in Washington, DC, on April 3, 2017.
Ronda L. Thompson,
FAA Information Collection Clearance Officer, Performance, Policy, and Records Management Branch, ASP-110.

[FR Doc. 2017-07011 Filed 4-6-17; 8:45 am]

BILLING CODE 4910-13-P